DEPARTMENT OF THE INTERIOR

Bureau of Land Management

[16X.LLID9570000.L14400000.BJ0000.241A.X.4500081115]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9:00 a.m., on the dates specified.

FOR FURTHER INFORMATION CONTACT: Bureau of Land Management, 1387 South Vinnell Way, Boise, Idaho 83709-1657.

SUPPLEMENTARY INFORMATION: These surveys were executed at the request of the Bureau of Land Management to meet their administrative needs. The lands surveyed are:

The plat representing the dependent resurvey of portions of the west boundary and subdivisional lines, and subdivision of sections 29 and 31, Township 26 North, Range 2 East, of the Boise Meridian, Idaho, Group Number 1393, was accepted October 8, 2015.

These surveys were executed at the request of the Bureau of Indian Affairs to meet certain administrative and management purposes. The lands surveyed are:

The plat representing the dependent resurvey of portions of the Boise Meridian (east boundary), subdivisional lines, subdivision of sections 12, 13, 24, and 25, and 1912 meanders of the Kootenai River in section 12, and the survey of the 2012-2014 meanders of the Kootenai River in sections 24 and 25, Township 63 North, Range 1 West, of the Boise Meridian, Idaho, Group Number 1380, was accepted October 22, 2015.

Stanley G. French,
Chief Cadastral Surveyor for Idaho.

[FR Doc. 2015-32886 Filed 12-29-15; 8:45 am]

BILLING CODE 4310-GG-P